ENVIRONMENTAL PROTECTION AGENCY

[EPA-HQ-OPP-2019-0050; FRL-9994-71]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2018 to March 30, 2019, except for one granted in September 2018, to control unforeseen pest outbreaks. The item for the exemption granted in September 2018 was issued to the Wyoming Department of Agriculture for the use of indaziflam on rangeland, pastures, and areas subject to the conservation reserve program to control Medusahead and Ventenata. From the previous notice for this exemption, published in the notice for pesticide emergency exemption decisions from the February 14, 2019 Federal Register (84 FR 4063) (FRL-9987-70), the effective dates are corrected to be September 14, 2018 to September 14, 2019.

FOR FURTHER INFORMATION CONTACT: Michael L. Goodis, Director, Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2019-0050, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific. EPA has not denied any emergency exemptions in this notice.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U.S. States and Territories

Alabama

Department of Agriculture and Industries

Specific exemptions: EPA authorized the use of the insecticide sulfoxaflor on a maximum of 45,000 acres of sorghum (grain and forage) to control sugarcane aphid. A time-limited tolerance in connection with this action has been established in 40 CFR 180.668(b). Effective April 1, 2019 to October 31, 2019.

EPA authorized the use of the insecticide sulfoxaflor on a maximum of 75,000 acres of cotton fields to control tarnished plant bug (Lygus lineolaris). Permanent tolerances in connection with a previous registration action have been established in 40 CFR 180.668(a). Effective June 1, 2019 to October 31, 2019.

Arkansas

State Plant Board

Specific exemption: EPA authorized the use of the insecticide sulfoxaflor on a maximum of 420,000 acres of cotton fields to control tarnished plant bug (Lygus lineolaris). Permanent tolerances in connection with a previous registration action have been established in 40 CFR 180.668(a). Effective June 1, 2019 to October 31, 2019.

California

Department of Pesticide Regulation

Specific exemptions: EPA authorized the use of the insecticide sulfoxaflor on a maximum of 28,000 acres of strawberry fields to control Western tarnished plant bugs (Lygus bugs). A permanent tolerance in connection with a previous registration action has been established in 40 CFR 180.668(a). Effective October 22, 2018 to October 22, 2019.

EPA authorized the use of the insecticide sulfoxaflor on a maximum of 77,000 acres of sorghum (grain, forage, silage and stover) and Sudangrass grown for seed to control sugarcane aphid. A time-limited tolerance in connection with this action has been established in 40 CFR 180.668(b). Effective November 8, 2018 to October 31, 2019.

EPA authorized the use of the insecticide flonicamid on a maximum of 365 acres of prickly pear cactus fruit and nopalitos (pads) to control cochineal scale insects. Time-limited tolerances in connection with this action have been established in 40 CFR 180.613(b). Effective December 21, 2018 to August 31, 2019.

EPA authorized the use of the insecticide indoxacarb on a maximum of 28,000 acres of mixed stands of alfalfa and grasses to control alfalfa weevils. Permanent tolerances are established for residues in alfalfa hay and alfalfa forage at 40 CFR 180.564(a), and time-limited tolerances in connection with this action will be established in 40 CFR 180.564(b) in grass hay and grass forage to cover any residues that may result from this use. Effective March 20, 2019 to August 31, 2019.

Quarantine exemption: EPA authorized the postharvest use of pyrethrins and piperonyl butoxide on a maximum of 250,000 acres of citrus to control Asian Citrus Psyllid (ACP), and limit the spread of Huanglongbing (HLB) vectored by ACP. Effective November 21, 2018 to April 9, 2021.

Florida

Department of Agriculture and Consumer Services

Specific exemptions: EPA authorized the use of streptomycin and oxytetracycline on a maximum of 330,254 acres of citrus to manage Huanglongbing (HLB) or citrus greening disease caused by the bacteria, Candidatus Liberibacter Asiaticus. Time-limited tolerances in connection with these actions have been established at 40 CFR 180.337(b) (oxytetracycline) and 180.245(b) (streptomycin). Effective December 31, 2018 to December 31, 2019.

EPA authorized the use of the insecticide clothianidin on a maximum of 125,376 acres of immature (3 to 5 years old) citrus trees to manage the transmission of Huanglongbing (HLB) disease vectored by the Asian citrus psyllid. A time-limited tolerance in connection with this action was established in 40 CFR 180.668(b). Effective January 1, 2019 to October 31, 2019.

Georgia

Department of Agriculture

Specific exemption: EPA authorized the use of the insecticide sulfoxaflor on a maximum of 50,000 acres of sorghum (grain and forage) to control sugarcane aphid. A time-limited tolerance in connection with this action has been established in 40 CFR 180.668(b). Effective May 1, 2019 to December 1, 2019.

Idaho

Department of Agriculture

Specific exemption: EPA authorized the use of the herbicide pyridate on a maximum of 9,500 acres of mint for postemergence control of herbicide-resistant annual weeds such as redroot pigweed, Amaranthus retroflexus and other broadleaf weeds. Tolerances in connection with an earlier registration action are established in 40 CFR 180.462(a). Effective June 20, 2019 to August 10, 2019.

Indiana

Office of the Indiana State Chemist

Specific exemption: EPA authorized the use of herbicide pyridate on a maximum of 11,200 acres of mint for postemergence control of herbicide-resistant annual weeds such as redroot pigweed, Armaranthus retroflexus and other broadleaf weeds. Tolerances in connection with an earlier registration action are established in 40 CFR 180.462(a). Effective May 18, 2019 to August 31, 2019.

Kansas

Department of Agriculture

Specific exemption: EPA authorized the use of sulfoxaflor on a maximum of 2,850,000 acres of sorghum (grain and forage) to control sugarcane aphid. A time-limited tolerance in connection with this action has been established in 40 CFR 180.668(b). Effective April 1, 2019 to November 30, 2019.

Kentucky

Department of Agriculture

Specific exemption: EPA authorized the use of flupyradifurone on a maximum of 1,500 acres of sweet sorghum (forage and syrup) to control sugarcane aphid. A time-limited tolerance in connection with this action has been established in 40 CFR 180.679(b). Effective May 8, 2019 to November 15, 2019.

Louisiana

Department of Agriculture

Specific exemptions: EPA authorized the use of the insecticide sulfoxaflor on a maximum of 180,000 acres of sorghum (grain and forage) to control sugarcane aphid. A time-limited tolerance in connection with this action has been established in 40 CFR 180.668(b). Effective April 1, 2019 to October 31, 2019.

EPA authorized the use of the insecticide sulfoxaflor on a maximum of 175,000 acres of cotton fields to control tarnished plant bug (Lygus lineolaris). Permanent tolerances in connection with a previous registration action have been established in 40 CFR 180.668(a). Effective April 1, 2019 to October 31, 2019.

Michigan

Department of Agriculture and Rural Development

Specific exemption: EPA authorized the use of the herbicide pyridate on a maximum of 1,250 acres of mint for postemergence control of herbicide-resistant annual weeds such as redroot pigweed, Armaranthus retroflexus and other broadleaf weeds. Tolerances in connection with an earlier registration action are established in 40 CFR 180.462(a). Effective May 18, 2019 to August 31, 2019.

Mississippi

Department of Agriculture and Commerce

Specific exemptions: EPA authorized the use of the insecticide sulfoxaflor on a maximum of 115,000 acres of sorghum (grain and forage) to control sugarcane aphid. A time-limited tolerance in connection with this action has been established in 40 CFR 180.668(b). Effective May 1, 2019 to October 31, 2019.

EPA authorized the use of the insecticide sulfoxaflor on a maximum of 750,000 acres of cotton fields to control tarnished plant bug (Lygus lineolaris). Permanent tolerances in connection with a previous registration action have been established in 40 CFR 180.668(a). Effective June 1, 2019 to October 31, 2019.

Missouri

Department of Agriculture

Specific exemption: EPA authorized the use of the insecticide sulfoxaflor on a maximum of 85,000 acres of sorghum (grain and forage) to control sugarcane aphid. A time-limited tolerance in connection with this action has been established in 40 CFR 180.668(b). Effective March 27, 2019 to November 30, 2019.

EPA authorized the use of the insecticide sulfoxaflor on a maximum of 241,500 acres of cotton fields to control tarnished plant bug (Lygus lineolaris). Permanent tolerances in connection with a previous registration action have been established in 40 CFR 180.668(a). Effective June 1, 2019 to October 31, 2019.

Montana

Department of Agriculture

Specific exemption: EPA authorized the use of the fungicide ethaboxam as a seed treatment for field peas to control the fungal disease-causing organism Aphanomyces euteiches on field pea seed sufficient to plant 26,250 acres of field peas. This is a non-food/feed use so tolerances were not needed. Effective February 1, 2019 to December 31, 2019.

Oregon

Department of Agriculture

Specific exemption: EPA authorized the use of the herbicide pyridate on a maximum of 5,200 acres of mint for postemergence control of herbicide-resistant annual weeds such as redroot pigweed, Armaranthus retroflexus and other broadleaf weeds. Tolerances in connection with an earlier registration action are established in 40 CFR 180.462(a). Effective June 20, 2019 to August 10, 2019.

Pennsylvania

Department of Agriculture

Specific exemption: EPA authorized the use of the insecticide etofenprox for use in mushroom cultivation on up to 16 million square feet (equivalent to 2,000 mushroom houses) to control Sciarid and Phorid fly species. Tolerances in connection with a previous action have been established in 40 CFR 180.620(a), to cover any residues as a result of this emergency exemption use. Effective February 7, 2019 to February 7, 2020.

Tennessee

Department of Agriculture

Specific exemption: EPA authorized the use of flupyradifurone on a maximum of 750 acres of sweet sorghum (forage and syrup) to control sugarcane aphid. A time-limited tolerance in connection with this action has been established in 40 CFR 180.679(b). Effective June 1, 2019 to November 15, 2019.

EPA authorized the use of the insecticide sulfoxaflor on a maximum of 285,000 acres of cotton fields to control tarnished plant bug (Lygus lineolaris). Permanent tolerances in connection with a previous registration action have been established in 40 CFR 180.668(a). Effective June 1, 2019 to September 30, 2019.

Texas

Department of Agriculture

Crisis exemption: EPA authorized the use of the insecticide thiamethoxam on a maximum of 100,000 acres of commercial rice fields to control rice delphacid (Tagosodes orizicolus). Time-limited tolerances for thiamethoxam in connection with this action will be established in 40 CFR 180.565(b). Section 18 use of thiamethoxam on rice results in potential clothianidin (a major metabolite of thiamethoxam) residues, that when combined with the residues from the Section 3 use of clothianidin on rice, requires an increase in the tolerance for residues of clothianidin in rice. Therefore, a time-limited tolerance will be established in 40 CFR 180.586(b) to cover residues of clothianidin. Effective October 31, 2018 to November 9, 2018.

Quarantine exemption: EPA authorized the use of the insecticide thiamethoxam on a maximum of 190,000 acres of commercial rice fields to control rice delphacid (Tagosodes orizicolus). Time-limited tolerances for thiamethoxam in connection with this action will be established in 40 CFR 180.565(b). Section 18 use of thiamethoxam on rice results in potential clothianidin (a major metabolite of thiamethoxam) residues, that when combined with the residues from the section 3 use of clothianidin on rice, requires an increase in the tolerance for residues of clothianidin in rice. Therefore, a time-limited tolerance will be established in 40 CFR 180.586(b) to cover residues of clothianidin. Effective March 3, 2019 to November 9, 2021.

Specific exemptions: EPA authorized the use of the insecticide sulfoxaflor on a maximum of 5.5 million acres of cotton fields to control tarnished plant bug (Lygus lineolaris). Permanent tolerances in connection with a previous registration action have been established in 40 CFR 180.668(a). Effective March 1, 2019 to October 31, 2019.

EPA authorized the use of the insecticide sulfoxaflor on a maximum of 3,000,000 acres of sorghum (grain and forage) to control sugarcane aphid. A time-limited tolerance in connection with this action has been established in 40 CFR 180.668(b). Effective April 1, 2019 to November 30, 2019.

Virginia

Department of Agriculture and Consumer Services

Specific exemptions: EPA authorized the use of the insecticide sulfoxaflor on a maximum of 16,591 acres of sorghum (grain and forage) to control sugarcane aphid. A time-limited tolerance in connection with this action has been established in 40 CFR 180.668(b). Effective March 27, 2019 to November 30, 2019.

EPA authorized the use of the insecticide sulfoxaflor on a maximum of 100,000 acres of cotton fields to control tarnished plant bug (Lygus lineolaris). Permanent tolerances in connection with a previous registration action have been established in 40 CFR 180.668(a). Effective June 1, 2019 to October 1, 2019.

Washington

Department of Agriculture

Specific exemption: EPA authorized the use of the herbicide pyridate on a maximum of 16,000 acres of mint for postemergence control of herbicide-resistant annual weeds such as redroot pigweed, Amaranthus retroflexus and other broadleaf weeds. Tolerances in connection with an earlier registration action are established in 40 CFR 180.462(a). Effective May 21, 2019 to August 31, 2019.

Wisconsin

Department of Agriculture

Specific exemption: EPA authorized the use of the herbicide pyridate on a maximum of 3,100 acres of mint for postemergence control of herbicide-resistant annual weeds such as redroot pigweed, Armaranthus retroflexus and other broadleaf weeds. Tolerances in connection with an earlier registration action are established in 40 CFR 180.462(a). Effective May 18, 2019 to August 31, 2019.

B. Federal Departments and Agencies

Agriculture Department

Animal and Plant Health Inspection Service

Quarantine exemptions: EPA authorized the use of a mixture of potassium peroxymonosulfate and propylene glycol for disinfection of nonporous surfaces associated with poultry facilities infected with highly pathogenic avian influenza virus. Effective January 20, 2019 to January 20, 2022.

EPA authorized the use of citric acid to treat for disinfection of porous and nonporous surfaces contaminated with foot-and-mouth disease virus, African swine fever virus, low pathogenic avian influenza virus, and high pathogenic avian flu influenza virus. Effective February 6, 2019 to February 6, 2022.

Authority: 7 U.S.C. 136 et seq.

Dated: June 10, 2019.
Michael Goodis,
Director, Registration Division, Office of Pesticide Programs.

[FR Doc. 2019-12745 Filed 6-14-19; 8:45 am]

BILLING CODE 6560-50-P